DEPARTMENT OF EDUCATION

Applications for New Awards: Technical Assistance and Dissemination To Improve Services and Results for Children With Disabilities; Technical Assistance Center for Inclusive School-Wide Reform

AGENCY: Office of Special Education and Rehabilitative Services, Department of Education.

ACTION: Notice.

Overview Information

Technical Assistance and Dissemination to Improve Services and Results for Children with Disabilities—Technical Assistance Center for Inclusive School-Wide Reform Notice inviting applications for new awards for fiscal year (FY) 2012.

Catalog of Federal Domestic Assistance (CFDA) Number: 84.326Y.

DATES: Applications Available: June 19, 2012.

Deadline for Transmittal of Applications: August 3, 2012.

Full Text of Announcement

I. Funding Opportunity Description

Purpose of Program: The purpose of the Technical Assistance and Dissemination to Improve Services and Results for Children with Disabilities program is to promote academic achievement and to improve results for children with disabilities by providing technical assistance, supporting model demonstration projects, disseminating useful information, and implementing activities that are supported by scientifically based research.

Priority: In accordance with 34 CFR 75.105(b)(2)(v), this priority is from allowable activities specified in the statute or otherwise authorized in the statute (see sections 663 and 681(d) of the Individuals with Disabilities Education Act (IDEA), 20 U.S.C. 1463 and 1481(d)).

Absolute Priority: For FY 2012 and any subsequent year in which we make awards from the list of unfunded applicants from this competition, this priority is an absolute priority. Under 34 CFR 75.105(c)(3) we consider only applications that meet this priority.

This priority is:

Technical Assistance Center for Inclusive School-Wide Reform

Background

The purpose of this Technical Assistance Center for Inclusive School-wide Reform is to assist State educational agencies (SEAs) and local educational agencies (LEAs) to successfully implement and sustain inclusive school-wide reform in kindergarten through grade 8 (K-8) programs.

Almost 30 years of research and experience have demonstrated that the education of children with disabilities can be made more effective by having high expectations and ensuring their participation and progress in the general education curriculum in inclusive ¹ settings to the maximum extent possible (Individuals with Disabilities Education Act, 2004). National data indicate that more than 60 percent of students with disabilities are educated in general education settings for 80 percent or more of the school day (U.S. Department of Education, 2011a). Students with disabilities, however, continue to lag behind their nondisabled peers in measures of academic achievement. For example, from 2000 to 2011, the percentage of students with disabilities scoring at or above proficiency in both reading and mathematics on the National Assessment of Educational Progress has been persistently lower than the percentage of students without disabilities scoring at or above proficiency (U.S. Department of Education, 2011b).

¹ For the purposes of this priority, “inclusive” or “inclusion” means an active commitment to equity for all students so as to maximize the participation of all learners, by making learning opportunities relevant and high-quality (National Institute for Urban School Improvement (NIUSI) Leadscape, 2011).

Research shows that inclusive school-wide reform that includes multi-tiered systems of support (MTSS), practices that support the participation of students with disabilities with their non-disabled peers in academic and extra-curricular activities of the school, school-wide positive behavioral supports (SWPBS), and culturally responsive and universal design for learning principles, hold promise for improving outcomes for students with disabilities. All students, including those with significant disabilities, benefit academically, behaviorally, and socially from practices that support inclusion (Cadwallader, Wagner, & Garza, 2003; Copeland & Cosbey, 2009; Jameson, McDonnell, Johnson, Riesen, & Polychronis, 2007; Rea, McLaughlin, & Walther-Thomas, 2002). Examples of successful practices that support inclusion are: (1) Using collaborative teaching models (Friend, Cook, Hurley-Chamberlain, & Shamberger, 2010); (2) providing time for consultation between general and special education teachers (Wallace, Anderson, & Bartholomay, 2002); (3) promoting university-school partnerships (Causton-Theoharis, Theoharis, Bull, Cosier, & Dempf-Aldrich, 2011; Kozleski, Pugach, & Yinger, 2002); (4) differentiating instruction (Hall, Strangman, & Meyer, 2003); and (5) clearly defining roles for support staff to support inclusion (Giangreco, Suter, & Doyle, 2010). In addition, engaging families in their children's education at home and school fosters successful inclusion for students with disabilities (Henderson & Mapp, 2002).

Students with disabilities benefit when successful practices that promote inclusion are implemented within an MTSS context (Wanzek & Vaughn, 2010). MTSS refers to a continuum of evidence-based, system-wide practices to support academic and behavioral needs, with frequent data-based monitoring for instructional decision-making (Kansas State Department of Education, 2012). Examples of MTSS include response to intervention (RTI) (National Center on Response to Intervention, 2011; Fuchs & Fuchs, 2007) and SWPBS (Sailor et al., 2006; Sugai & Horner, 2009).

Recent research on SWPBS indicates the need to apply culturally responsive principles within the context of MTSS and in conjunction with practices that promote inclusion. For example, SWPBS has been shown to reduce the overall number of office discipline referrals in a school, but not for African American students (Skiba, 2012). Culturally responsive principles promote the development and success of all students and can be incorporated in learning environments by communicating high expectations; reshaping the curriculum to reflect all students' experiences; and engaging students in activities that value their background, knowledge, and experiences (Gay, 2000; King, Artiles, & Kozleski, 2010). Integrating culturally responsive principles within SWPBS has shown promise for students, especially for students from culturally and linguistically diverse backgrounds (Jones, Caravaca, Cizek, Horner, & Vincent, 2006; Vincent, Randall, Cartledge, Tobin, & Swain-Bradway, 2011).

Applying universal design for learning principles within the context of MTSS in conjunction with practices that promote inclusion can also improve outcomes for students with disabilities (Hehir, 2009; Rose & Gravel, 2010). The key principles of universal design for learning include presenting information and content in various ways, promoting multiple ways in which students can express what they know, and stimulating interest and motivation for learning (Rose & Meyer, 2006).

Successful implementation of inclusive school-wide reform is expected to: (1) Increase the number of students with disabilities, including those with significant intellectual disabilities and emotional disturbance, who receive meaningful instruction and related services within general education settings for increased periods of time; (2) decrease the frequency of disciplinary actions involving students with disabilities; and (3) increase the participation of students with disabilities in extracurricular activities. As a result, successful inclusive school-wide reform is expected to improve academic, behavioral, and other social outcomes for students with disabilities.

Priority

The purpose of this priority is to fund a cooperative agreement to support the establishment and operation of a Technical Assistance Center for Inclusive School-wide Reform (Center) that will assist SEAs and LEAs to successfully implement and sustain inclusive school-wide reform in K-8 programs. The Center will provide technical assistance (TA) to SEAs and LEAs to implement inclusive school-wide reform in K-8 programs located in rural,² urban, and high-need LEAs.³ The Center will provide TA that will—

² For the purposes of this priority, “rural LEA” means an LEA that is eligible under the Small Rural School Achievement (SRSA) program or the Rural and Low-Income School (RLIS) program authorized under Title VI, Part B of the Elementary and Secondary Education Act of 1965, as amended (ESEA). Applicants may determine whether a particular LEA is eligible for these programs by referring to the information on the following Department Web sites. For SRSA: www2.ed.gov/programs/reapsrsa/index.html. For RLIS: www.ed.gov/programs/reaprlisp/eligibility.html.

³ Section 2102(3) of the ESEA defines a “high-need LEA” as an LEA—(a) That serves not fewer than 10,000 children from families with incomes below the poverty line (as that term is defined in section 9101(33) of the ESEA), or for which not less than 20 percent of the children served by the LEA are from families with incomes below the poverty line; and (b) For which there is (1) a high percentage of teachers not teaching in the academic subjects or grade levels that the teachers were trained to teach, or (2) a high percentage of teachers with emergency, provisional, or temporary certification or licensing.

(1) Improve the knowledge and skills of educators, administrators, and support staff to implement successful inclusive school-wide reform;

(2) Increase the capacity of schools to implement successful inclusive school-wide reform in grade-level academic and extracurricular settings; and

(3) Increase the capacity of schools to engage families and communities in promoting successful inclusive school-wide reform.

To be considered for funding under this absolute priority, applicants must meet the application requirements contained in this priority. Any project funded under this absolute priority must also meet the programmatic and administrative requirements specified in the priority.

Application Requirements. An applicant must include in its application—

(a) A logic model that depicts, at a minimum, the goals, activities, outputs, and outcomes of the proposed project. A logic model communicates how a project will achieve its outcomes and provides a framework for both formative and summative evaluations of the project;

Note: The following Web sites provide more information on logic models: www.researchutilization.org/matrix/logicmodel_resource3c.html and www.tadnet.org/model_and_performance.

(b) A plan to implement the activities described in the Project Activities section of this priority;

(c) A plan, linked to the proposed project's logic model, for a formative evaluation of the proposed project's activities. The plan must describe how the formative evaluation will use clear performance objectives to ensure continuous improvement in the operation of the proposed project, including objective measures of progress in implementing the project and ensuring the quality of products and services;

(d) A plan to identify six schools—two schools in three different States—where the achievement or growth of students with disabilities on the State assessments is significantly higher than the State average achievement or growth of students with disabilities. These schools will serve as knowledge development sites to examine the implementation of inclusive school-wide reform, as described in the Knowledge Development Activities section of this notice.

The six selected schools must include at least one urban and one rural school and at least two elementary and two middle schools. The remaining two schools may include both elementary and middle school grades (e.g., K-8, 4-8). High schools are not eligible for selection. The six schools selected must have the approval of the OSEP Project Officer.

The proportion of students with disabilities in each of the six schools must be at least equal to the proportion of students with disabilities in the State.

The Center will collect from these six knowledge development schools examples of practices that support inclusion, which together should reflect a range and variety of inclusive practices. Information obtained from these schools will be used to support the TA work described in the Technical Assistance and Dissemination Activities section of this priority. The plan for selecting these knowledge development schools must include the criteria the Center will use to make the selection;

(e) A plan for recruiting and selecting a minimum of four SEAs and at least four LEAs in each of those SEAs to receive intensive TA during the course of the grant to build the capacity of schools and educators to implement and sustain inclusive school-wide reform. The plan must include the criteria the Center will use to select these LEAs. The LEAs selected must include one or more rural, urban, and high-need LEAs in each SEA. Each LEA must ensure the participation of a minimum of three schools with at least one elementary and one middle school, or a school with comparable grade levels. All SEAs and LEAs selected must have the approval of the OSEP Project Officer. In total, at least 48 schools will participate across the 16 LEAs;

(f) A budget for a summative evaluation to be conducted by an independent third party;

(g) A budget for attendance at the following:

(1) A one and one half-day kick-off meeting to be held in Washington, DC, after receipt of the award, and an annual planning meeting held in Washington, DC, with the OSEP Project Officer during each subsequent year of the project period.

Note: Within 30 days of receipt of the award, a post-award teleconference must be held between the OSEP Project Officer and the grantee's Project Director or other authorized representative.

(2) A three-day Project Directors' Conference in Washington, DC, during each year of the project period.

(3) Two one and one-half day OSEP Leadership and Leveraging Resources conferences during each year of the project period; and

(4) Two two-day trips annually to attend Department briefings and other meetings, as requested by OSEP; and

(h) A line item in the proposed budget for an annual set-aside of five percent of the grant amount to support emerging needs that are consistent with the proposed project's activities, as those needs are identified in consultation with OSEP.

Note: With approval from the OSEP Project Officer, the Center must reallocate any remaining funds from this annual set-aside no later than the end of the third quarter of each budget period.

Project Activities. To meet the requirements of this priority, the Center, at a minimum, must conduct the following activities:

Knowledge Development Activities

(a) Conduct a review of published studies and other available evidence on inclusive school-wide reform, within the first six months of the project, using standards that are consistent with those used by the What Works Clearinghouse (http://ies.ed.gov/ncee/wwc/) and the definitions of “strong evidence” and “moderate evidence” contained in the notice of final priorities and definitions for discretionary grants programs, published in the Federal Register on December 15, 2010 (75 FR 78486), and corrected on May 12, 2011 (76 FR 27637). The research review must summarize available evidence on—

(1) The elements of successful inclusive school-wide reform in K-8 programs, including MTSS, inclusive practices, SWPBS, culturally responsive and universal design for learning principles, and other identified elements that support learning in inclusive settings; and

(2) LEA and school system components of K-8 programs (e.g., staff development, leadership support, and organizational resources, policies, and procedures) that facilitate the successful implementation and sustainability of inclusive school-wide reform;

(b) Consult with a group of persons, within the first six months of the project, established under paragraph (b) of the Leadership and Coordination Activities section of this notice to augment the knowledge of the inclusive school-wide reform team established under paragraph (a)(1) of the Leadership and Coordination Activities section of this notice. Specifically, the purpose of the group is to enhance the team's understanding of inclusive school-wide reform in elementary and middle schools, or schools with comparable grade levels, including reform in urban, rural, and high-needs LEAs. The group must also guide the planning and implementation of the fieldwork to be carried out in the six knowledge development schools in the first year of the project period. The group must guide the development of the protocols and assessments, discussed in paragraph (d) of this section, to be used in this fieldwork;

(c) Conduct fieldwork in the first year of the project period to include three separate one week-long visits at each of the six knowledge development schools. Over the course of each of these visits, the Center will—

(1) Observe instruction of students with disabilities in inclusive settings in a variety of subjects and extracurricular activities;

(2) Conduct interviews with a variety of school and LEA personnel;

(3) Conduct focus groups with teachers, parents, and students; and

(4) Shadow and interview students with disabilities and their parents, as appropriate, to learn more about how students with disabilities experience inclusive settings within their schools;

(d) Develop and then use protocols and assessments to—

(1) Identify and describe any evidence that students with disabilities are improving in academic, behavioral, and other social outcomes within the inclusive settings; and

(2) Identify and describe the system components (e.g., staff development, leadership support, organizational resources, policies, and procedures) that are successful in fostering the implementation and sustainability of inclusive school-wide reform;

(e) Refine the protocols and assessments based on the findings from fieldwork at knowledge development schools in conjunction with the group established under paragraph (b) of the Leadership and Coordination Activities section of this notice. The protocols and assessments will be used to evaluate and track improvements in the implementation of inclusive school-wide reform at intensive TA sites described in paragraph (e) in the Application Requirements section of this notice;

(f) Complete state-of-knowledge papers by the end of the first 18 months of the project period, based on the—

(1) Literature review conducted under paragraph (a) of the Knowledge Development Activities section of this notice; and

(2) A synthesis of the findings from the fieldwork conducted at knowledge development schools in accordance with paragraph (c) of this section; and

(g) Submit all materials developed in accordance with the requirements of this section for review to the group established under paragraph (b) of the Leadership and Coordination Activities section of this notice, and, once the materials are approved by the group, disseminate them in accordance with the requirements in the Technical Assistance and Dissemination Activities section of this notice.

Technical Assistance and Dissemination Activities

(a) Recruit and select at least four SEAs to receive intensive TA in building the capacity within LEAs to implement and sustain inclusive school-wide reform to support students with disabilities to succeed in general education settings and extracurricular activities;

(b) Develop criteria to select, and then, in collaboration with the SEAs, recruit and select at least four LEAs in each of the four SEAs to receive intensive TA in building capacity to support schools, educators, administrators, and support staff to implement and sustain inclusive school-wide reform. One or more rural, urban, and high-need LEAs in each State must be included. Each LEA must ensure the participation of at least one elementary and one middle school, or schools with comparable grade levels. At least 48 schools must receive intensive TA from the Center during the course of the grant;

(c) In collaboration with the SEAs, apply Knowledge Development findings described in paragraph (f) in the Knowledge Development Activities section of this notice to the development of a TA plan for each LEA that is selected to receive intensive TA. The Center must begin providing intensive TA in the second year of the project period. Refine the TA plan using the information gathered from the literature review and the work with the knowledge development schools as data become available;

(d) Provide intensive TA to SEAs to assist with building the capacity of selected LEAs and schools to implement and sustain inclusive school-wide reform to support students with disabilities to succeed in general education settings and extracurricular activities;

(e) At regular intervals, evaluate the outcomes of inclusive school-wide reform, including academic, behavioral, and other social outcomes, in intensive TA schools using the refined protocols and assessments developed in accordance with paragraph (e) of the Knowledge Development Activities section of this notice;

(f) Analyze and synthesize data from these protocols and assessments to develop recommendations for improving the implementation of inclusive school-wide reform;

(g) Maintain a Web site that meets government or industry-recognized standards for accessibility and that links to the Web site operated by the Technical Assistance Coordination Center (TACC);

(h) Prepare and disseminate reports, documents, and other materials on inclusive school-wide reform and related topics as requested by OSEP for specific audiences, including families, educators, administrators, policymakers, and researchers. In consultation with the OSEP Project Officer, make selected reports, documents, and other materials available in both English and Spanish, as appropriate;

(i) Prior to developing any new TA product, submit a proposal for each product to the TACC database for approval from the OSEP Project Officer. The development of new products should be consistent with the product definition and guidelines posted on the TACC Web site (www.tadnet.org);

(j) Regularly contribute updated information on the Center's approved and finalized products and services to a database at TACC; and

(k) Coordinate with the National Dissemination Center for Individuals with Disabilities to develop an efficient and high-quality dissemination strategy that reaches broad audiences. The Center must report to the OSEP Project Officer the outcomes of these coordination efforts.

Leadership and Coordination Activities

(a) Assist SEAs to build the capacity of LEAs to—

(1) Establish school-level and LEA-level inclusive school-wide reform teams that include teachers, administrators, a representative from an institution of higher education (IHE), and family members to support students with disabilities to succeed in general education settings and in extracurricular activities;

(2) Plan and implement inclusive school-wide reform;

(3) Develop and implement a family engagement strategy to involve families in supporting inclusive school-wide reform; and

(4) Develop and implement a strategy for developing the capacity of all stakeholders (students, parents, administrators, educators, and community members) to collaboratively support inclusive school-wide reform;

(b) Consult with a group of persons, referenced in paragraph (b) in the Knowledge Development Activities section of this notice, including representatives from SEAs and LEAs, including individuals with disabilities, educators, parents of individuals with disabilities, representatives from IHEs, and researchers, as appropriate on the activities and outcomes of the Center and solicit programmatic support and advice from various participants in the group, as appropriate. The Center may convene meetings, whether in person, by phone or other means, for this purpose, or may consult with group participants individually. The Center must identify the members of the group to OSEP within eight weeks after receipt of the award;

(c) Continually communicate and collaborate with OSEP-funded and other Department-funded projects, including, but not limited to, the Intensive Interventions Center, Center on Positive Behavioral Supports, Center for Technology Implementation, Center on State Implementation and Scaling-up of Evidence-based Practices, the IDEA Partnership Project, the Regional Resource Centers, the National and Regional Parent Technical Assistance Centers, the Regional Educational Laboratories, and relevant Comprehensive Centers. This collaboration could include the joint development of TA products, the coordination of TA services, and planning and holding TA meetings and events. In addition, the Center must build on the expertise and resources of previously and currently supported Department of Education TA centers, such as the National Center on Student Progress Monitoring (NCSPM), the Research Institute on Progress Monitoring (RIPM), the National Center on Response to Intervention (NCRTI), the Center on Instruction (COI), and the Individuals with Disabilities Education Act 2004-Research for Inclusive Settings (IRIS) Center;

(d) Participate in, organize, or facilitate communities of practice that align with the needs of the Center's target audience. Communities of practice should align with the project's objectives to support discussions and collaboration among key stakeholders. The following Web site provides more information on communities of practice: www.tacommunities.org/community/view/id/1027; and

(e) Maintain ongoing communication with the OSEP Project Officer through monthly phone conversations and email.

Fourth and Fifth Years of the Project

In deciding whether to continue funding the Center for the fourth and fifth years, the Secretary will consider the requirements of 34 CFR 75.253(a) and in addition--

(a) The recommendation of a review team consisting of experts selected by the Secretary. This review team will meet in Washington, DC, during the last half of the Center's second year. The Center must budget for travel expenses associated with this meeting;

(b) The timeliness and effectiveness with which all requirements of the negotiated cooperative agreement have been or are being met by the Center; and

(c) Evidence of the degree to which the Center's activities have contributed to changed practices and improved outcomes for students with disabilities.

References

Cadwallader, T., Wagner, M., & Garza, N. (2003). Participation in extracurricular activities. In Wagner, M., Cadwallader, T., & Marder, C. (with Cameto, R., Cardoso, D., Garza, N., Levine, P., & Newman, L.). (2003). Life Outside the Classroom for Youth with Disabilities. A Report from the National Longitudinal Transition Study-2 (NLTS2). Menlo Park, CA: SRI International. Available from www.nlts2.org/reports/2003_04-2/nlts2_report_2003_04-2_complete.pdf.

Causton-Theoharis, J., Theoharis, G., Bull, T., Cosier, M., & Dempf-Aldrich, K. (2011). Schools of promise: A school district-university partnership centered on inclusive school reform. Remedial and Special Education, 32, 192-205.

Copeland, S.R., & Cosbey, J. (2009). Making progress in the general curriculum: Rethinking effective instructional practices. Research and Practice for Persons with Severe Disabilities, 33-34 (4-1), 214-227.

Friend, M., Cook, L., Hurley-Chamberlain, D., & Shamberger, C. (2010). Co-Teaching: An illustration of the complexity of collaboration in special education. Journal of Educational and Psychological Consultation, 20, 1-27.

Fuchs, L., & Fuchs, D. (2007). A model for implementing responsiveness to intervention. Teaching Exceptional Children, 39, 58-63.

Gay, G. (2000). Culturally responsive teaching: Theory, research, and practice. New York: Teachers College Press.

Giangreco, M.F., Suter, J.C., Doyle, M.B. (2010). Paraprofessionals in inclusive schools: A review of recent research. Journal of Educational and Psychological Consultation, 20, 41-57.

Hall, T., Strangman, N., & Meyer, A. (2003). Differentiated instruction and implications for UDL implementation. Wakefield, MA: National Center on Accessing the General Curriculum. Retrieved from aim.cast.org/learn/historyarchive/backgroundpapers/differentiated_instruction_udl.

Hehir, T. (2009). Policy foundations of universal design for learning. In D.T. Gordon, J.W. Gravel, & L.A. Schifter (Eds.), A policy design for learning (pp. 35-45). Cambridge, MA: Harvard University Press.

Henderson, A.T., & Mapp, K.L. (2002). A New Wave of Evidence: The Impact of School, Family, and Community Connections on Student Achievement. Austin, TX: Southwest Educational Development Laboratory. Retrieved from www.sedl.org/connections/resources/evidence.pdf.

Individuals with Disabilities Education Act Amendments of 2004. (2004). Pub. L. No. 108-446, 20 U.S.C. § 1400 et seq.

Jameson, J.M., McDonnell, J., Johnson, J.W., Riesen, T., & Polychronis, S. (2007). A comparison of one-to-one embedded instruction in the general education classroom and one-to-one massed practice instruction in the special education classroom. Education and Treatment of Children, 30, 23-44.

Jones, C., Caravaca, L., Cizek, S., Horner, R., Vincent, C.G. (2006). Culturally responsive schoolwide positive behavior support: A case study in one school with a high proportion of Native American students. Multiple Voices for Ethnically Diverse Exceptional Learners, (9)1, 108-119.

Kansas State Department of Education. (2012). Kansas multi-tier system of support. Retrieved from www.kansasmtss.org/.

King, A., Artiles, A. J., & Kozleski, E. (2010). Professional learning for culturally responsive teaching. Retrieved from www.equityallianceatasu.org/sites/default/files/Web site_files/exemplarFINAL.pdf.

Kozleski, E.B., Pugach, M., & Yinger, R. (2002). Preparing teachers to work with students with disabilities: Possible challenges for special and general teacher education (White Paper). Washington, DC: American Association of Colleges for Teacher Education.

National Center on Response to Intervention. (2011). What is RTI? Retrieved from www.rti4success.org/whatisrti.

National Institute for Urban School Improvement (NIUSI). (2011). Inclusive Education for Equity. Retrieved from www.niusileadscape.org/pd/inclusive_education_for_equity.

Rea, P.J., McLaughlin, V.L., Walther-Thomas, C. (2002). Outcomes for students with learning disabilities in inclusive and pullout programs. Exceptional Children, 68, 203-222.

Rose, D.H., & Gravel, J.W. (2010). Universal design for learning. In E. Baker, P. Peterson, & B. McGaw (Eds.). International Encyclopedia of Education, 3rd Ed. Oxford: Elsevier.

Rose, D.H., & Meyer, A. (2006). A practical reader in Universal Design for Learning. Cambridge, MA: Harvard Education Press.

Sailor, W., Zuna, N., Choi, J., Thomas, J., McCart, A., & Roger, B. (2006). Anchoring schoolwide positive behavior support in structural school reform. Research & Practice for Persons with Severe Disabilities, 31, 18-30.

Skiba, R. (2012, February). Interventions for reducing disciplinary disparities and the problem of race neutrality. Paper presented at 2012 National Center on Response to Intervention Disproportionality Technical Workgroup.

Sugai, G., & Horner, R.H. (2009). Responsiveness-to-Intervention and School-Wide Positive Behavior Supports: Integration of Multi-Tiered System Approaches. Exceptionality, 17(4), 223-237.

U.S. Department of Education, National Center for Education Statistics. (2011a). Digest of Education Statistics, 2010 (NCES 2011-015), Chapter 2. Washington, DC: Author.

U.S. Department of Education, Institute of Education Sciences. (2011b). National Center for Education Statistics, National Assessment of Educational Progress (NAEP), 2011 Mathematics and Reading Assessments. Washington, DC: Author.

Vincent, C. G., Randall, C., Cartledge, G., Tobin, T.J., Swain-Bradway, J. (2011). Toward a conceptual integration of cultural responsiveness and schoolwide positive behavior support. Journal of Positive Behavior Interventions, (13)4, 219-229.

Wallace, T., Anderson, A.R., & Bartholomay, T. (2002). Collaboration: An element associated with the success of four inclusive high schools. Journal of Educational and Psychological Consultation, 13, 349-381.

Wanzek, J., & Vaughn, S. (2010). Tier 3 interventions for students with significant reading problems. Theory Into Practice, 49, 305-314.

Waiver of Proposed Rulemaking: Under the Administrative Procedure Act (APA) (5 U.S.C. 553) the Department generally offers interested parties the opportunity to comment on proposed priorities and requirements. Section 681(d) of IDEA, however, makes the public comment requirements of the APA inapplicable to the priority in this notice.

Program Authority: 20 U.S.C. 1463 and 1481.

Applicable Regulations: (a) The Education Department General Administrative Regulations (EDGAR) in 34 CFR parts 74, 75, 77, 79, 80, 81, 82, 84, 86, 97, 98, and 99. (b) The Education Department debarment and suspension regulations in 2 CFR part 3485.

Note: The regulations in 34 CFR part 79 apply to all applicants except federally recognized Indian tribes.

Note: The regulations in 34 CFR part 86 apply to IHEs only.

II. Award Information

Type of Award: Cooperative agreement.

Estimated Available Funds: $4,900,000.

Contingent upon the availability of funds and the quality of applications, we may make additional awards in FY 2013 from the list of unfunded applicants from this competition.

Maximum Awards: We will reject any application that proposes a budget exceeding $4,900,000 for a single budget period of 12 months. The Assistant Secretary for Special Education and Rehabilitative Services may change the maximum amount through a notice published in the Federal Register.

Estimated Number of Awards: 1.

Note: The Department is not bound by any estimates in this notice.

Project Period: Up to 36 months with an optional additional 24 months based on performance. Applications must include plans for both the 36 month award and the 24 month extension.

III. Eligibility Information

1. Eligible Applicants: IHEs, other public agencies, private nonprofit organizations, and for-profit organizations. Applicants may apply as a consortium.

2. Cost Sharing or Matching: This competition does not require cost sharing or matching.

3. Other: General Requirements—(a) The project funded under this competition must make positive efforts to employ and advance in employment qualified individuals with disabilities (see section 606 of IDEA).

(b) Applicants and the grant recipient funded under this competition must involve individuals with disabilities or parents of individuals with disabilities ages birth through 26 in planning, implementing, and evaluating the projects (see section 682(a)(1)(A) of IDEA).

IV. Application and Submission Information

1. Address to Request Application Package: You can obtain an application package via the Internet, from the Education Publications Center (ED Pubs), or from the program office.

To obtain a copy via the Internet, use the following address: www.ed.gov/fund/grant/apply/grantapps/index.html.

To obtain a copy from ED Pubs, write, fax, or call the following: ED Pubs, U.S. Department of Education, P.O. Box 22207, Alexandria, VA 22304. Telephone, toll free: 1-877-433-7827. Fax: (703) 605-6794. If you use a telecommunications device for the deaf (TDD) or a text telephone (TTY), call, toll free: 1-877-576-7734.

You can contact ED Pubs at its Web site, also: www.EDPubs.gov or at its email address: edpubs@inet.ed.gov.

If you request an application package from ED Pubs, be sure to identify this program or competition as follows: CFDA number 84.326Y.

To obtain a copy from the program office, contact the person listed under FOR FURTHER INFORMATION CONTACT in section VII of this notice.

Individuals with disabilities can obtain a copy of the application package in an accessible format (e.g., braille, large print, audiotape, or compact disc) by contacting the person or team listed under Accessible Format in section VIII of this notice.

2. Content and Form of Application Submission: Requirements concerning the content of an application, together with the forms you must submit, are in the application package for this competition.

Page Limit: The application narrative (Part III of the application) is where you, the applicant, address the selection criteria that reviewers use to evaluate your application. You must limit the application narrative to the equivalent of no more than 70 pages, using the following standards:

• A “page” is 8.5″ x 11″, on one side only, with 1″ margins at the top, bottom, and both sides.

• Double space (no more than three lines per vertical inch) all text in the application narrative, including titles, headings, footnotes, quotations, references, and captions.

• Use a font that is either 12 point or larger or no smaller than 10 pitch (characters per inch).

• Use one of the following fonts: Times New Roman, Courier, Courier New, or Arial. An application submitted in any other font (including Times Roman or Arial Narrow) will not be accepted.

The page limit does not apply to Part I, the cover sheet; Part II, the budget section, including the narrative budget justification; Part IV, the assurances and certifications; or the one-page abstract, the resumes, the bibliography, the references, or the letters of support. However, the page limit does apply to all of the application narrative section (Part III).

We will reject your application if you exceed the page limit or if you apply other standards and exceed the equivalent of the page limit.

3. Submission Dates and Times:

Applications Available: June 19, 2012.

Deadline for Transmittal of Applications: August 3, 2012.

Applications for grants under this competition may be submitted electronically using the Grants.gov Apply site (Grants.gov), or in paper format by mail or hand delivery. For information (including dates and times) about how to submit your application electronically, or in paper format by mail or hand delivery, please refer to section IV. 7. Other Submission Requirements of this notice.

We do not consider an application that does not comply with the deadline requirements.

Individuals with disabilities who need an accommodation or auxiliary aid in connection with the application process should contact the person listed under FOR FURTHER INFORMATION CONTACT in section VII of this notice. If the Department provides an accommodation or auxiliary aid to an individual with a disability in connection with the application process, the individual's application remains subject to all other requirements and limitations in this notice.

4. Intergovernmental Review: This competition is subject to Executive Order 12372 and the regulations in 34 CFR part 79. Information about Intergovernmental Review of Federal Programs under Executive Order 12372 is in the application package for this competition.

5. Funding Restrictions: We reference regulations outlining funding restrictions in the Applicable Regulations section of this notice.

6. Data Universal Numbering System Number, Taxpayer Identification Number, and Central Contractor Registry: To do business with the Department of Education, you must—

a. Have a Data Universal Numbering System (DUNS) number and a Taxpayer Identification Number (TIN);

b. Register both your DUNS number and TIN with the Central Contractor Registry (CCR), the Government's primary registrant database;

c. Provide your DUNS number and TIN on your application; and

d. Maintain an active CCR registration with current information while your application is under review by the Department and, if you are awarded a grant, during the project period.

You can obtain a DUNS number from Dun and Bradstreet. A DUNS number can be created within one business day.

If you are a corporate entity, agency, institution, or organization, you can obtain a TIN from the Internal Revenue Service. If you are an individual, you can obtain a TIN from the Internal Revenue Service or the Social Security Administration. If you need a new TIN, please allow 2-5 weeks for your TIN to become active.

The CCR registration process may take five or more business days to complete. If you are currently registered with the CCR, you may not need to make any changes. However, please make certain that the TIN associated with your DUNS number is correct. Also note that you will need to update your CCR registration on an annual basis. This may take three or more business days to complete.

In addition, if you are submitting your application via Grants.gov, you must (1) be designated by your organization as an Authorized Organization Representative (AOR); and (2) register yourself with Grants.gov as an AOR. Details on these steps are outlined at the following Grants.gov Web page: www.grants.gov/applicants/get_registered.jsp.

7. Other Submission Requirements: Applications for grants under this competition may be submitted electronically or in paper format by mail or hand delivery.

a. Electronic Submission of Applications

We are participating as a partner in the Governmentwide Grants.gov Apply site. The Technical Assistance Center for Inclusive School-Wide Reform competition, CFDA number 84.326Y, is included in this project. We request your participation in Grants.gov.

If you choose to submit your application electronically, you must use the Governmentwide Grants.gov Apply site at www.Grants.gov. Through this site, you will be able to download a copy of the application package, complete it offline, and then upload and submit your application. You may not email an electronic copy of a grant application to us.

You may access the electronic grant application for the Technical Assistance Center for Inclusive School-Wide Reform competition at www.Grants.gov. You must search for the downloadable application package for this competition by the CFDA number. Do not include the CFDA number's alpha suffix in your search (e.g., search for 84.326, not 84.326Y).

Please note the following:

• Your participation in Grants.gov is voluntary.

• When you enter the Grants.gov site, you will find information about submitting an application electronically through the site, as well as the hours of operation.

• Applications received by Grants.gov are date and time stamped. Your application must be fully uploaded and submitted and must be date and time stamped by the Grants.gov system no later than 4:30:00 p.m., Washington, DC time, on the application deadline date. Except as otherwise noted in this section, we will not accept your application if it is received—that is, date and time stamped by the Grants.gov system—after 4:30:00 p.m., Washington, DC time, on the application deadline date. We do not consider an application that does not comply with the deadline requirements. When we retrieve your application from Grants.gov, we will notify you if we are rejecting your application because it was date and time stamped by the Grants.gov system after 4:30:00 p.m., Washington, DC time, on the application deadline date.

• The amount of time it can take to upload an application will vary depending on a variety of factors, including the size of the application and the speed of your Internet connection. Therefore, we strongly recommend that you do not wait until the application deadline date to begin the submission process through Grants.gov.

• You should review and follow the Education Submission Procedures for submitting an application through Grants.gov that are included in the application package for this competition to ensure that you submit your application in a timely manner to the Grants.gov system. You can also find the Education Submission Procedures pertaining to Grants.gov under News and Events on the Department's G5 system home page at www.G5.gov.

• You will not receive additional point value because you submit your application in electronic format, nor will we penalize you if you submit your application in paper format.

• If you submit your application electronically, you must submit all documents electronically, including all information you typically provide on the following forms: the Application for Federal Assistance (SF 424), the Department of Education Supplemental Information for SF 424, Budget Information—Non-Construction Programs (ED 524), and all necessary assurances and certifications.

• If you submit your application electronically, you must upload any narrative sections and all other attachments to your application as files in a PDF (Portable Document) read-only, non-modifiable format. Do not upload an interactive or fillable PDF file. If you upload a file type other than a read-only, non-modifiable PDF or submit a password-protected file, we will not review that material. Additional, detailed information on how to attach files is in the application instructions.

• Your electronic application must comply with any page-limit requirements described in this notice.

• After you electronically submit your application, you will receive from Grants.gov an automatic notification of receipt that contains a Grants.gov tracking number. (This notification indicates receipt by Grants.gov only, not receipt by the Department.) The Department then will retrieve your application from Grants.gov and send a second notification to you by email. This second notification indicates that the Department has received your application and has assigned your application a PR/Award number (an ED-specified identifying number unique to your application).

• We may request that you provide us original signatures on forms at a later date.

Application Deadline Date Extension in Case of Technical Issues with the Grants.gov System: If you are experiencing problems submitting your application through Grants.gov, please contact the Grants.gov Support Desk, toll free, at 1-800-518-4726. You must obtain a Grants.gov Support Desk Case Number and must keep a record of it.

If you are prevented from electronically submitting your application on the application deadline date because of technical problems with the Grants.gov system, we will grant you an extension until 4:30:00 p.m., Washington, DC time, the following business day to enable you to transmit your application electronically or by hand delivery. You also may mail your application by following the mailing instructions described elsewhere in this notice.

If you submit an application after 4:30:00 p.m., Washington, DC time, on the application deadline date, please contact the person listed under FOR FURTHER INFORMATION CONTACT in section VII of this notice and provide an explanation of the technical problem you experienced with Grants.gov, along with the Grants.gov Support Desk Case Number. We will accept your application if we can confirm that a technical problem occurred with the Grants.gov system and that that problem affected your ability to submit your application by 4:30:00 p.m., Washington, DC time, on the application deadline date. The Department will contact you after a determination is made on whether your application will be accepted.

Note: The extensions to which we refer in this section apply only to the unavailability of, or technical problems with, the Grants.gov system. We will not grant you an extension if you failed to fully register to submit your application to Grants.gov before the application deadline date and time or if the technical problem you experienced is unrelated to the Grants.gov system.

b. Submission of Paper Applications by Mail

If you submit your application in paper format by mail (through the U.S. Postal Service or a commercial carrier), you must mail the original and two copies of your application, on or before the application deadline date, to the Department at the following address:

U.S. Department of Education, Application Control Center, Attention: (CFDA Number 84.326Y), LBJ Basement Level 1, 400 Maryland Avenue SW., Washington, DC 20202-4260.

You must show proof of mailing consisting of one of the following:

(1) A legibly dated U.S. Postal Service postmark.

(2) A legible mail receipt with the date of mailing stamped by the U.S. Postal Service.

(3) A dated shipping label, invoice, or receipt from a commercial carrier.

(4) Any other proof of mailing acceptable to the Secretary of the U.S. Department of Education.

If you mail your application through the U.S. Postal Service, we do not accept either of the following as proof of mailing:

(1) A private metered postmark.

(2) A mail receipt that is not dated by the U.S. Postal Service.

If your application is postmarked after the application deadline date, we will not consider your application.

Note: The U.S. Postal Service does not uniformly provide a dated postmark. Before relying on this method, you should check with your local post office.

c. Submission of Paper Applications by Hand Delivery

If you submit your application in paper format by hand delivery, you (or a courier service) must deliver the original and two copies of your application by hand, on or before the application deadline date, to the Department at the following address:

U.S. Department of Education, Application Control Center, Attention: (CFDA Number 84.326Y), 550 12th Street SW., Room 7041, Potomac Center Plaza, Washington, DC 20202-4260.

The Application Control Center accepts hand deliveries daily between 8:00 a.m. and 4:30:00 p.m., Washington, DC time, except Saturdays, Sundays, and Federal holidays.

Note for Mail or Hand Delivery of Paper Applications: If you mail or hand deliver your application to the Department—

(1) You must indicate on the envelope and—if not provided by the Department—in Item 11 of the SF 424 the CFDA number, including suffix letter, if any, of the competition under which you are submitting your application; and

(2) The Application Control Center will mail to you a notification of receipt of your grant application. If you do not receive this notification within 15 business days from the application deadline date, you should call the U.S. Department of Education Application Control Center at (202) 245-6288.

V. Application Review Information

1. Selection Criteria: The selection criteria for this competition are from 34 CFR 75.210 and are listed in the application package.

2. Review and Selection Process: We remind potential applicants that in reviewing applications in any discretionary grant competition, the Secretary may consider, under 34 CFR 75.217(d)(3), the past performance of the applicant in carrying out a previous award, such as the applicant's use of funds, achievement of project objectives, and compliance with grant conditions. The Secretary may also consider whether the applicant failed to submit a timely performance report or submitted a report of unacceptable quality.

In addition, in making a competitive grant award, the Secretary also requires various assurances including those applicable to Federal civil rights laws that prohibit discrimination in programs or activities receiving Federal financial assistance from the Department of Education (34 CFR 100.4, 104.5, 106.4, 108.8, and 110.23).

3. Additional Review and Selection Process Factors: In the past, the Department has had difficulty finding peer reviewers for certain competitions because so many individuals who are eligible to serve as peer reviewers have conflicts of interest. The Standing Panel requirements under section 682(b) of IDEA also have placed additional constraints on the availability of reviewers. Therefore, the Department has determined that, for some discretionary grant competitions, applications may be separated into two or more groups and ranked and selected for funding within the specific groups. This procedure will make it easier for the Department to find peer reviewers by ensuring that greater numbers of individuals who are eligible to serve as reviewers for any particular group of applicants will not have conflicts of interest. It also will increase the quality, independence, and fairness of the review process, while permitting panel members to review applications under discretionary grant competitions for which they also have submitted applications. However, if the Department decides to select an equal number of applications in each group for funding, this may result in different cut-off points for fundable applications in each group.

4. Special Conditions: Under 34 CFR 74.14 and 80.12, the Secretary may impose special conditions on a grant if the applicant or grantee is not financially stable; has a history of unsatisfactory performance; has a financial or other management system that does not meet the standards in 34 CFR parts 74 or 80, as applicable; has not fulfilled the conditions of a prior grant; or is otherwise not responsible.

VI. Award Administration Information

1. Award Notices: If your application is successful, we notify your U.S. Representative and U.S. Senators and send you a Grant Award Notification (GAN). We may notify you informally, also.

If your application is not evaluated or not selected for funding, we notify you.

2. Administrative and National Policy Requirements: We identify administrative and national policy requirements in the application package and reference these and other requirements in the Applicable Regulations section of this notice.

We reference the regulations outlining the terms and conditions of an award in the Applicable Regulations section of this notice and include these and other specific conditions in the GAN. The GAN also incorporates your approved application as part of your binding commitments under the grant.

3. Reporting: (a) If you apply for a grant under this competition, you must ensure that you have in place the necessary processes and systems to comply with the reporting requirements in 2 CFR part 170 should you receive funding under the competition. This does not apply if you have an exception under 2 CFR 170.110(b).

(b) At the end of your project period, you must submit a final performance report, including financial information, as directed by the Secretary. If you receive a multi-year award, you must submit an annual performance report that provides the most current performance and financial expenditure information as directed by the Secretary under 34 CFR 75.118. The Secretary may also require more frequent performance reports under 34 CFR 75.720(c). For specific requirements on reporting, please go to www.ed.gov/fund/grant/apply/appforms/appforms.html.

4. Performance Measures: Under the Government Performance and Results Act of 1993 (GPRA), the Department has established a set of performance measures, including long-term measures, that are designed to yield information on various aspects of the effectiveness and quality of the Technical Assistance and Dissemination to Improve Services and Results for Children with Disabilities program. These measures focus on the extent to which projects provide high-quality products and services, the relevance of project products and services to educational and early intervention policy and practice, and the use of products and services to improve educational and early intervention policy and practice.

Grantees will be required to report information on their project's performance in annual reports to the Department (34 CFR 75.590).

5. Continuation Awards: In making a continuation award, the Secretary may consider, under 34 CFR 75.253, the extent to which a grantee has made “substantial progress toward meeting the objectives in its approved application.” This consideration includes the review of a grantee's progress in meeting the targets and projected outcomes in its approved application, and whether the grantee has expended funds in a manner that is consistent with its approved application and budget. In making a continuation grant, the Secretary also considers whether the grantee is operating in compliance with the assurances in its approved application, including those applicable to Federal civil rights laws that prohibit discrimination in programs or activities receiving Federal financial assistance from the Department (34 CFR 100.4, 104.5, 106.4, 108.8, and 110.23).

VII. Agency Contact

FOR FURTHER INFORMATION CONTACT: Dr. Grace Zamora Durán, U.S. Department of Education, 400 Maryland Avenue SW., room 4088, Potomac Center Plaza (PCP), Washington, DC 20202-2600. Telephone: (202) 245-7328.

If you use a TDD or a TTY, call the Federal Relay Service (FRS), toll free, at 1-800-877-8339.

VIII. Other Information

Accessible Format: Individuals with disabilities can obtain this document and a copy of the application package in an accessible format (e.g., braille, large print, audiotape, or compact disc) by contacting the Grants and Contracts Services Team, U.S. Department of Education, 400 Maryland Avenue SW., room 5075, PCP, Washington, DC 20202-2550. Telephone: (202) 245-7363. If you use a TDD or a TTY, call the FRS, toll free, at 1-800-877-8339.

Electronic Access to This Document: The official version of this document is the document published in the Federal Register. Free Internet access to the official edition of the Federal Register and the Code of Federal Regulations is available via the Federal Digital System at: www.gpo.gov/fdsys. At this site you can view this document, as well as all other documents of this Department published in the Federal Register, in text or Adobe Portable Document Format (PDF). To use PDF you must have Adobe Acrobat Reader, which is available free at the site.

You may also access documents of the Department published in the Federal Register by using the article search feature at: www.federalregister.gov. Specifically, through the advanced search feature at this site, you can limit your search to documents published by the Department.

Dated: June 13, 2012.
Alexa Posny,
Assistant Secretary for Special Education and Rehabilitative Services.

[FR Doc. 2012-14940 Filed 6-18-12; 8:45 am]

BILLING CODE 4000-01-P